DEPARTMENT OF DEFENSE

National Imagery and Mapping Agency

Privacy Act of 1974; System of Records

AGENCY: National Imagery and Mapping Agency, DoD.

ACTION: Notice to delete systems of records.

SUMMARY: The National Imagery and Mapping Agency is deleting 11 systems of records notices from its existing inventory of record systems subject to the Privacy Act of 1974, (5 U.S.C. 552a), as amended.

DATES: This proposed action will be effective without further notice on May 9, 2001 unless comments are received which result in a contrary determination.

ADDRESSES: Comments should be sent to the Office of General Counsel, National Imagery and Mapping Agency, Mail Stop D-10, 4600 Sangamore Road, Bethesda, MD 20816-5003.

FOR FURTHER INFORMATION CONTACT: Mr. Tom Willess, Associate General Counsel, at (301) 227-2953.

SUPPLEMENTARY INFORMATION: The National Imagery and Mapping Agency systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

April 3, 2001.
L.M. Bynum,
Alternate OSD Federal Register Liaison Officer, Department of Defense.

B0302-21

System name:

Record of Travel Payments (February 22, 1993, 58 FR 10189).

Reason:

Records are now being maintained under the Defense Finance and Accounting Service Privacy Act system of records notice T7333, Travel Payment System.

B0303-20

System name:

Compensation Data Request Files (February 22, 1993, 58 FR 10189).

Reason:

Records are now being maintained under the government-wide Privacy Act system of records notice DOL/GOVT-1, Office of Worker's Compensation Programs, Federal Employee's Compensation Act File.

B0401-02

System name:

Statements of Employment and Financial Interest and Ethics Act Files (February 22, 1993, 58 FR 10189).

Reason:

Records are now being maintained under the government-wide Privacy Act systems of records notices OGE/GOVT-1, Executive Branch Public Financial Disclosure Reports and other Ethics Program Records and OGE/GOVT-2, Confidential Statements of Employment and Financial Interests.

B0401-03

System name:

Legal Assistance Case Files (July 13, 1995, 60 FR 36124).

Reason:

The NIMA General Counsel no longer provides Legal Assistance to military and civilian personnel assigned to NIMA. Therefore, records have been destroyed.

B0503-04

System name:

Parking Permit Control Files (February 22, 1993, 58 FR 10189).

Reason:

Records are no longer being maintained and have been destroyed.

B0615-07

System name:

Safety Awards Files (July 13, 1995, 60 FR 36124).

Reason:

Records are no longer being maintained and have been destroyed.

B1205-05

System name:

Property Officer Designation Files (February 22, 1993, 58 FR 10189).

Reason:

Records are not retrieved by a personal identifier. Therefore, a Privacy Act system of records is no longer required.

B1205-23

System name:

Report of Survey Files (February 22, 1993, 58 FR 10189).

Reason

Records are not retrieved by a personal identifier. Therefore, a Privacy Act system of records is no longer required.

B1206-02

System name:

Self Service Store Authorization Card Files (February 22, 1993, 58 FR 10189).

Reason:

Records are no longer being maintained and have been destroyed.

B1208-06

System name:

Motor Vehicle Operator's Permits and Qualifications Files (February 22, 1993, 58 FR 10189).

Reason:

Records are no longer being maintained and have been destroyed.

B1211-07

System name:

Individual Government Transportation Files (February 22, 1993, 58 FR 10189).

Reason:

Records are now being maintained under the government-wide Privacy Act system of records notice GSA/GOVT-4, Contracted Travel Services Programs.

[FR Doc. 01-8626 Filed 4-6-01; 8:45 am]

BILLING CODE 5001-10-P